SMALL BUSINESS ADMINISTRATION

13 CFR Part 121

Small Business Size Standards; General Building Contractors, Heavy Construction, Except Building, Dredging and Surface Cleanup Activities, Special Trade Contractors, Garbage and Refuse Collection, Without Disposal, and Refuse Systems; Correction

Correction

In rule document 00-20475 beginning on page 49726 in the issue of Tuesday, August 15, 2000, make the following correction:

§121.201 [Corrected]

On page 49726, in the third column, in §121.201, in the table, in the second column, in the third entry, “17.01” should read “17.0¹”.

[FR Doc. C0-20475 Filed 8-18-00; 8:45 am]

BILLING CODE 1505-01-D

DEPARTMENT OF TRANSPORTATION

Federal Aviation Administration

14 CFR Part 71

[Airspace Docket No. 00-ACE-25]

Establishment of Class D and Class E Airspace, and Amendment to Class E Airspace; Garden City, KS

Correction

In proposed rule document 00-20166, beginning on page 48651, in the issue of Wednesday, August 9, 2000, make the following correction:

§71.1 [Corrected]

On page 48652, in the first column, §71.1, in the third heading, “ACE KS E2 Garden City, KS [New] ” should read “ ACE KS E4 Garden City, KS [New] ”.

[FR Doc. C0-20166 Filed 8-18-00; 8:45 am]

BILLING CODE 1505-01-D

DEPARTMENT OF TRANSPORTATION

Federal Aviation Administration

14 CFR Parts 91, 121, and 125

[Docket No. 29104; Amendment Nos. 91-264, 121-275, 125-33 & 129-28]

RIN 2120-AF81

Repair Assessment for Pressurized Fuselages

Correction

In rule document 00-10220 beginning on page 24108 in the issue of Tuesday, April 25, 2000, make the following corrections:

§91.410 [Corrected]

1. On page 24125, in the third column, in §91.410(a)(3), in the first line, “25,000” should read “25,500”.

§121.370 [Corrected]

2. On page 24126, in the first column, in §121.370(a)(3), in the first line, “25,000” should read “25,500”.

§125.248 [Corrected]

3. On the same page, in the second column, in §125.248(a)(3), in the first line, “25,000” should read “25,500”.

[FR Doc. C0-10220 Filed 8-18-00; 8:45 am]

BILLING CODE 1505-01-D